DEPARTMENT OF COMMERCE

National Oceanic and Atmospheric Administration

RIN 0648-XC418

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Socioeconomic Scientific and Statistical Committee.

DATES: The meeting will convene at 9 a.m. on Wednesday, January 16, 2013 and conclude at 5 p.m.

ADDRESSES: The meeting will be held at the Gulf of Mexico Fishery Management Council's office located at 2203 N. Lois Avenue, Suite 1100, Tampa, FL 33607, telephone: (813) 348-1630.

Council address: Gulf of Mexico Fishery Management Council, 2203 N. Lois Avenue, Suite 1100, Tampa, FL 33607.

FOR FURTHER INFORMATION CONTACT: Dr. Assane Diagne, Economist; Gulf of Mexico Fishery Management Council; telephone: (813) 348-1630.

SUPPLEMENTARY INFORMATION: The Gulf of Mexico Fishery Management Council (Council) will convene the Socioeconomic Scientific and Statistical Committee (SSC) to discuss issues related to the review of individual fishing quota (IFQ) programs, including the 5-year review of the red snapper IFQ program. The Committee will also discuss issues related to the role of the Socioeconomic SSC.

Copies of the agenda and other related materials can be obtained by calling (813) 348-1630 or can be downloaded from the Council's ftp site, ftp.gulfcouncil.org.

Although other non-emergency issues not on the agenda may come before the Socioeconomic Scientific and Statistical Committee for discussion, in accordance with the Magnuson-Stevens Fishery Conservation and Management Act, those issues may not be the subject of formal action during this meeting. Actions of the Socioeconomic Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: December 21, 2012.
Tracey L. Thompson,
Acting Deputy Director, Office of Sustainable Fisheries, National Marine Fisheries Service.

[FR Doc. 2012-31150 Filed 12-27-12; 8:45 am]

BILLING CODE 3510-22-P